GENERAL SERVICES ADMINISTRATION

[Notice: CIB-2011-3; Docket 2011-0004; Sequence 3]

Privacy Act of 1974; Notice of Updated Systems of Records

AGENCY: General Services Administration.

ACTION: Updated Notice.

SUMMARY: GSA reviews its Privacy Act systems to ensure that they are relevant, necessary, accurate, up-to-date, and covered by the appropriate legal or regulatory authority. This notice is an updated Privacy Act system of records notice.

DATES: Effective August 24, 2011.

FOR FURTHER INFORMATION CONTACT: Call or e-mail the GSA Privacy Act Officer: telephone 202-208-1317; e-mail gsa.privacyact@gsa.gov.

ADDRESSES: GSA Privacy Act Officer (CIB), General Services Administration, 1275 First Street, NE., Washington, DC 20417.

SUPPLEMENTARY INFORMATION: GSA completed an agency wide review of its Privacy Act systems of records. As a result of the review, GSA is publishing an updated Privacy Act system of records notice. The system contains information needed to identify potential and actual bidders and awardees, and transaction information involving personal property sales. System records include: (1) Personal information provided by bidders and buyers, including, but not limited to, names, phone numbers, addresses, Social Security Numbers, birth dates and credit card numbers or other banking information, and (2) contract information on Federal personal property sales, including whether payment was received, the form of the payment, notices of default, and contract claim information.

Dated: July 19, 2011.
Cheryl M. Paige,
Director, Office of Information Management.

GSA/FSS-13

SYSTEM NAME:

Personal Property Sales Program.

SYSTEM LOCATION:

System records are maintained by the General Services Administration (GSA) at several locations within the United States including the Unisys Data Center in Egan, Minnesota, and the Unisys Data Center in Salt Lake City, Utah. A complete list of the locations is available from the system manager.

CATEGORIES OF INDIVIDUALS COVERED BY THE SYSTEM:

The system will include those individuals who request to be added to GSA bidders mailing lists, register to bid on GSA sales, and/or enter into contracts to buy Federal personal property at sales conducted by GSA.

CATEGORIES OF RECORDS IN THE SYSTEM:

The system contains information needed to identify potential and actual bidders and awardees, and transaction information involving personal property sales. System records include:

a. Personal information provided by bidders and buyers, including, but not limited to, names, phone numbers, addresses, Social Security Numbers, birth dates and credit card numbers or other banking information; and

b. Contract information on Federal personal property sales, including whether payment was received, the form of the payment, notices of default, and contract claim information.

AUTHORITY FOR MAINTENANCE OF THE SYSTEM:

40 U.S.C. 121(c) and 40 U.S.C. 541, et seq.

PURPOSE:

To establish and maintain a system of records for conducting public sales of Federal personal property by GSA.

ROUTINE USES OF THE SYSTEM RECORDS, INCLUDING CATEGORIES OF USERS AND THEIR PURPOSES FOR USING THE SYSTEM:

System information may be accessed and used by authorized GSA employees or contractors to prepare for and conduct personal property sales, administer sales contracts, perform oversight or maintenance of the GSA electronic systems and, when necessary, for sales contract litigation or non-procurement suspension or debarment purposes.

INFORMATION FROM THIS SYSTEM ALSO MAY BE DISCLOSED AS A ROUTINE USE:

a. In any criminal, civil, or administrative legal proceeding, where pertinent, to which GSA, a GSA employee, or the United States or other entity of the United States Government is a party before a court or administrative body.

b. To an appeal, grievance, hearing, or complaints examiner; an equal employment opportunity investigator, arbitrator, or mediator; and/or an exclusive representative or other person authorized to investigate or settle a grievance, complaint, or appeal filed by an individual who is the subject of the record.

c. To a Federal agency, state, local, tribal or other public authority in connection with the hiring or retention of an employee, the issuance of a security clearance, the reporting of an investigation, the letting of a contract, or the issuance of a grant, license, or other benefit to the extent that the information is relevant and necessary to a decision.

d. To the Office of Personnel Management (OPM), the Office of Management and Budget (OMB), or the Government Accountability Office (GAO) when the information is required for program evaluation purposes.

e. To a Member of Congress or his or her staff on behalf of and at the request of the individual who is the subject of the record.

f. To an expert, consultant, or contractor of GSA in the performance of a Federal duty related to the contract or appointment to which the information is relevant.

g. To the GSA Office of Finance for debt collection purposes (see GSA/PPFM-7).

h. To the National Archives and Records Administration (NARA) for records management purposes.

i. To appropriate agencies, entities, and persons when (1) The Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

j. To a Federal, state, local, or tribal agency responsible for investigating, prosecuting, enforcing, or carrying out a statute, rule, regulation, or order when GSA becomes aware of a violation or potential violation of civil or criminal law or regulation; or to an agency, individual or organization, if there is reason to believe that such agency, individual or organization possesses information or is responsible for acquiring information relating to the investigation, trial or hearing, and the dissemination is reasonably necessary to elicit such information or to obtain the cooperation of a witness or an informant.

k. To the Office of Management and Budget (OMB) when necessary to the review of private relief legislation pursuant to OMB circular No. A-19.

l. To designated agency personnel for controlled access to specific records for the purpose of performing authorized audit or oversight functions.

POLICIES AND PRACTICES FOR STORING, RETRIEVING, ACCESSING, AND RETAINING, AND DISPOSING OF SYTEM RECORDS:

STORAGE:

Information may be collected on paper or electronically and may be stored on paper or on electronic media, as appropriate.

RETRIEVABILITY:

Records are retrievable by a personal identifier or by other appropriate type of designation approved by GSA.

SAFEGUARDS:

System records are safeguarded in accordance with the requirements of the Privacy Act, the Computer Security Act, and OMB Circular A-130. Technical, administrative, and personnel security measures are implemented to ensure confidentiality and integrity of the system data stored, processed, and transmitted. Access is limited to those individuals with a need to know and access the information. Paper records are stored in secure cabinets or rooms. Electronic records are protected by passwords and other appropriate security measures. Electronic systems are compliant with the standards established by the National Institute of Standards and Technology.

RETENTION AND DISPOSAL:

Disposition of records is according to the National Archives and Records Administration (NARA) guidelines, as set forth in CIO P 1820.1, GSA Records Maintenance and Disposition System, and authorized GSA records schedules.

SYSTEM MANAGER AND ADDRESS:

Director, Property Management Division (FBP), Federal Supply Service, General Services Administration, 2200 Crystal Drive, Crystal Plaza 4, Arlington, VA 22202.

NOTIFICATION PROCEDURE:

Individuals may submit a request on whether a system contains records about them to the system manager at the above address.

RECORD ACCESS PROCEDURES:

Requests from individuals for access to their records should be addressed to the system manager.

CONTESTING RECORD PROCEDURE:

GSA rules for access to systems of records, contesting the contents of systems of records, and appealing initial determinations are published in the Federal Register, 41 CFR part 105-64.

RECORD SOURCE CATEGORIES:

Information is provided by individuals who wish to participate in the GSA personal property sales program, and system transactions designed to gather and maintain data and to manage and evaluate the Federal personal property disposal program.

[FR Doc. 2011-18637 Filed 7-22-11; 8:45 am]

BILLING CODE 6820-34-P